DEPARTMENT OF HEALTH AND HUMAN SERVICES

Meeting of the Chronic Fatigue Syndrome Advisory Committee

AGENCY: Office of the Secretary, Office of the Assistant Secretary for Health, Department of Health and Human Services.

ACTION: Notice.

SUMMARY: As stipulated by the Federal Advisory Committee Act, the U.S. Department of Health and Human Services (DHHS) is hereby giving notice that a meeting of the Chronic Fatigue Syndrome Advisory Committee (CFSAC) will take place via webinar and will be open to the public.

DATES: The CFSAC webinar will be held on Tuesday, May 17, 2016 and Wednesday, May 18, 2016, from 12:00 p.m. until 5:00 p.m. (ET).

ADDRESSES: The meeting will be conducted via webinar. This will not be an in-person meeting.

FOR FURTHER INFORMATION CONTACT: Nancy C. Lee, M.D., Designated Federal Officer, Chronic Fatigue Syndrome Advisory Committee, Department of Health and Human Services, 200 Independence Avenue SW., Room 712E, Washington, DC 20201. Please direct all inquiries to cfsac@hhs.gov.

SUPPLEMENTARY INFORMATION: The CFSAC is authorized under 42 U.S.C. 217a, Section 222 of the Public Health Service Act, as amended. The purpose of the CFSAC is to provide advice and recommendations to the Secretary of Health and Human Services (HHS), through the Assistant Secretary for Health (ASH), on issues related to myalgic encephalomyelitis/chronic fatigue syndrome (ME/CFS). The issues can include factors affecting access and care for persons with ME/CFS; the science and definition of ME/CFS; and broader public health, clinical, research, and educational issues related to ME/CFS.

The agenda for this meeting and call-in information will be posted on the CFSAC Web site http://www.hhs.gov/advcomcfs/index.html.

Thirty minutes of public comment via telephone will be scheduled for each day of the webinar. Individuals will have three minutes to present their comments. Priority will be given to individuals who have not provided public comment within the previous year. We are unable to place international calls for public comments. To request a time slot for public comment, please send an email to cfsac@hhs.gov by May 9, 2016. The email should contain the speaker's name and the phone number that will be used for public comment.

Individuals who would like for their testimony to be provided to the Committee members should submit a copy of the testimony prior to the meeting. It is preferred that the submitted testimony be prepared in digital format and typed using a 12-pitch typeface. It must not exceed 5 single-space pages and is preferred that the document be prepared in the MS Word format. Please note that PDF files, handwritten notes, charts, and photographs cannot be accepted. Materials submitted should not include sensitive personal information, such as social security number, birthdates, driver's license number, passport number, financial account number, or credit or debit card number. If you wish to remain anonymous the document must specify this. The Committee welcomes input on any topic related to ME/CFS.

Dated: April 21, 2016.
Nancy C. Lee,
Designated Federal Officer, Chronic Fatigue Syndrome Advisory Committee.

[FR Doc. 2016-09840 Filed 4-26-16; 8:45 am]

BILLING CODE 4150-42-P